GENERAL SERVICES ADMINISTRATION

[OMB Control No. 3090-0235]

General Services Administration Acquisition Regulation; Information Collection; Price Reductions Clause

AGENCY: Office of the Chief Acquisition Officer, GSA.

ACTION: Notice of request for comments regarding a renewal to an existing OMB clearance.

SUMMARY: Under the provisions of the Paperwork Reduction Act of 1995 (44 U.S.C. Chapter 35), the General Services Administration has submitted to the Office of Management and Budget (OMB) a request to review and approve an extension of a currently approved information collection requirement regarding the GSAR Price Reductions Clause. A request for public comments was published at 73 FR 45772, August 6, 2008. No comments were received. The clearance currently expires on January 31, 2009.

Public comments are particularly invited on: Whether this collection of information is necessary and whether it will have practical utility; whether our estimate of the public burden of this collection of information is accurate, and based on valid assumptions and methodology; ways to enhance the quality, utility, and clarity of the information to be collected.

DATES: Submit comments on or before: February 17, 2009.

FOR FURTHER INFORMATION CONTACT: Mr. Warren Blankenship, Procurement Analyst, Contract Policy Division, at telephone (202) 501-1900 or via e-mail to warren.blankenship@gsa.gov.

ADDRESSES: Submit comments regarding this burden estimate or any other aspect of this collection of information, including suggestions for reducing this burden to Ms. Jasmeet Seehra, GSA Desk Officer, OMB, Room 10236, NEOB, Washington, DC 20503, and a copy to the Regulatory Secretariat (VPR), General Services Administration, Room 4041, 1800 F Street, NW., Washington, DC 20405. Please cite OMB Control No. 3090-0235, Price Reductions Clause, in all correspondence.

SUPPLEMENTARY INFORMATION:

A. Purpose

The clause at GSAR 552.238-75, Price Reductions, used in multiple award schedule contracts ensures that the Government maintains its relationship with the contractor’s customer or category of customers, upon which the contract is predicated. The reason for the burden increase as it exists now is based on current data updating the number of MAS Schedule contractors.

B. Annual Reporting Burden

Number of Respondents: 18,000.

Total Annual Responses: 36,000.

Average hours per response: 2 hours.

Total Burden Hours: 72,000.

Obtaining copies of proposals: Requesters may obtain a copy of the information collection documents from the General Services Administration, Regulatory Secretariat (VPR), 1800 F Street, NW., Room 4041, Washington, DC 20405, telephone (202) 501-4755. Please cite OMB Control No. 3090-0235, Price Reductions Clause, in all correspondence.

Dated: January 12, 2009
Al Matera,
Director, Office of Acquisition Policy.

[FR Doc. E9-868 Filed 1-15-09; 8:45 am]

BILLING CODE 6820-61-S